INTERNATIONAL TRADE COMMISSION

[Investigation Nos. 701-TA-486 and 731-TA-1195-1196 (Second Review)]

Utility Scale Wind Towers From China and Vietnam

Determinations

On the basis of the record ¹ developed in the subject five-year reviews, the United States International Trade Commission (“Commission”) determines, pursuant to the Tariff Act of 1930 (“the Act”), that revocation of the countervailing duty order on utility scale wind towers from China and antidumping duty orders on utility scale wind towers from China and Vietnam would be likely to lead to continuation or recurrence of material injury to an industry in the United States within a reasonably foreseeable time.

¹ The record is defined in § 207.2(f) of the Commission's Rules of Practice and Procedure (19 CFR 207.2(f)).

Background

The Commission instituted these reviews on April 1, 2024 (89 FR 22445) and determined on July 5, 2024 that it would conduct expedited reviews (89 FR 73723, September 11, 2024).

The Commission made these determinations pursuant to section 751(c) of the Act (19 U.S.C. 1675(c)). It completed and filed its determinations in these reviews on October 11, 2024. The views of the Commission are contained in USITC Publication 5553 (October 2024), entitled Utility Scale Wind Towers from China and Vietnam: Investigation Nos. 701-TA-486 and 731-TA-1195-1196 (Second Review).

By order of the Commission.
Issued: October 11, 2024.
Lisa Barton,
Secretary to the Commission.

[FR Doc. 2024-23985 Filed 10-16-24; 8:45 am]

BILLING CODE 7020-02-P